DEPARTMENT OF ENERGY

Federal Energy Regulatory Commission

Combined Notice of Filings

Take notice that the Commission has received the following Natural Gas Pipeline Rate and Refund Report filings:

Filings Instituting Proceedings

Docket Numbers: RP10-729-000.

Applicants: Portland Natural Gas Transmission System.

Description: Portland Natural Gas Transmission System submits Compliance Filing including pro forma tariff sections and all supporting workpapers.

Filed Date: 4/22/13.

Accession Number: 20130422-5213.

Comments Due: 5 p.m. ET 5/6/13.

Docket Numbers: RP13-817-000.

Applicants: Discovery Gas Transmission LLC.

Description: Discovery Gas Transmission LLC submits Imbalance Cash-out Report for 2012 Activity.

Filed Date: 4/25/13.

Accession Number: 20130425-5053.

Comments Due: 5 p.m. ET 5/7/13.

Docket Numbers: RP13-818-000.

Applicants: East Tennessee Natural Gas, LLC.

Description: ETNG 2013 Map Filing to be effective 6/1/2013.

Filed Date: 4/26/13.

Accession Number: 20130426-5036.

Comments Due: 5 p.m. ET 5/8/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-805-001.

Applicants: Ryckman Creek Resources, LLC.

Description: Revised Tariff Records—Unredacted FSS Agreements to be effective 5/25/2013.

Filed Date: 4/25/13.

Accession Number: 20130425-5057.

Comments Due: 5 p.m. ET 5/7/13.

Docket Numbers: RP13-802-001.

Applicants: El Paso Natural Gas Company, L.L.C.

Description: Non-Conforming TSAs and Minor Housekeeping Amendment to be effective 5/20/2013.

Filed Date: 4/25/13.

Accession Number: 20130425-5209.

Comments Due: 5 p.m. ET 5/7/13.

Docket Numbers: RP12-792-002.

Applicants: ANR Storage Company.

Description: Compliance to RP12-792 Phase II to be effective 6/1/2013.

Filed Date: 4/26/13.

Accession Number: 20130426-5043.

Comments Due: 5 p.m. ET 5/8/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 26, 2013.
Nathaniel J. Davis, Sr.,
Deputy Secretary.

[FR Doc. 2013-10470 Filed 5-2-13; 8:45 am]

BILLING CODE 6717-01-P